DEPARTMENT OF COMMERCE

International Trade Administration

[A-489-807]

Certain Steel Concrete Reinforcing Bars From Turkey; Notice of Extension of Time Limits for Preliminary Results in Antidumping Duty Administrative Review

AGENCY: Import Administration, International Trade Administration, Department of Commerce.

EFFECTIVE DATE: October 15, 2003.

SUMMARY: The Department of Commerce is extending the time limits for completion of the preliminary results of the administrative review of the antidumping duty order on certain steel concrete reinforcing bars from Turkey. The period of review is April 1, 2002, through March 31, 2003.

FOR FURTHER INFORMATION CONTACT: Irina Itkin or Elizabeth Eastwood at (202) 482-0656 or (202) 482-3874, respectively, Office of AD/CVD Enforcement, Import Administration, International Trade Administration, U.S. Department of Commerce, 14th Street and Constitution Avenue, NW., Washington, DC 20230.

SUPPLEMENTARY INFORMATION:

Background

On May 21, 2003, the Department published a notice of initiation of administrative review of the antidumping duty order on certain steel concrete reinforcing bars from Turkey (68 FR 27781). The period of review is April 1, 2002, through March 31, 2003, and the preliminary results are currently due no later than December 31, 2003. The review covers twenty-three producers/exporters of the subject merchandise to the United States.

Extension of Preliminary Results

Pursuant to section 751(a)(3)(A) of the Tariff Act of 1930, as amended (the Act), the Department shall make a preliminary determination in an administrative review of an antidumping order within 245 days after the last day of the anniversary month of the date of publication of the order. The Act further provides, however, that the Department may extend the 245-day period to 365 days if it determines it is not practicable to complete the review within the foregoing time period. We determine that it is not practicable to complete this administrative review within the time limits mandated by section 751(a)(3)(A) of the Act, because this review involves a number of complicated issues for certain of the respondents, including the reporting of downstream sales for affiliated resellers and high inflation in Turkey during the period of review. Analysis of these issues requires additional time. Moreover, because one respondent, ICDAS Celik Enerji Tersane ve Ulasim Sanayi, A.S., has requested revocation in this review, we must verify its submitted data pursuant to 782(i)(2) of the Act. However, we will be unable to complete this verification before the date of the preliminary results as currently scheduled. Therefore, we have extended the deadline for completing the preliminary results until April 29, 2004.

This extension is in accordance with section 751(a)(3)(A) of the Act (19 U.S.C. 1675(a)(3)(A)) and 19 CFR 351.213(h)(2).

Dated: October 8, 2003.
Jeffrey A. May,
Deputy Assistant Secretary for Import Administration.

[FR Doc. 03-26080 Filed 10-14-03; 8:45 am]

BILLING CODE 3510-DS-P